DEPARTMENT OF AGRICULTURE

Animal and Plant Health Inspection Service

7 CFR Part 301

[Docket No. 02-096-5]

Oriental Fruit Fly

AGENCY: Animal and Plant Health Inspection Service, USDA.

ACTION: Affirmation of interim rules as final rule.

SUMMARY: We are adopting as a final rule, without change, two interim rules regarding Oriental fruit fly. The first interim rule designated a portion of Orange County, CA, as a quarantined area and provided for the use of spinosad bait spray as an alternative treatment for premises. The second interim rule removed the quarantine on that portion of Orange County, CA, and thus removed the restrictions on the interstate movement of regulated articles from that area. The first interim rule was necessary to prevent the spread of Oriental fruit fly to noninfested areas of the United States, and to provide an alternative to malathion bait spray to treat premises that produce regulated articles within the quarantined area. The second interim rule was necessary to reflect our determination that the Oriental fruit fly had been eradicated from Orange County, CA.

DATES: Effective Date: The interim rules became effective on September 14, 2004, and March 2, 2005.

FOR FURTHER INFORMATION CONTACT: Mr. Wayne Burnett, National Fruit Fly Program Manager, PPQ, APHIS, 4700 River Road Unit 134, Riverdale, MD 20737-1236; (301) 734-4387.

SUPPLEMENTARY INFORMATION:

Background

In an interim rule effective September 14, 2004, and published in the Federal Register on September 20, 2004 (69 FR 56157-56159, Docket No. 02-096-3), we amended the Oriental fruit fly regulations in § 301.93-3(c) by designating a portion of Orange County, CA, as a quarantined area because of an infestation of Oriental fruit fly and restricted the interstate movement of regulated articles from the quarantined area. We also amended § 301.93-10(b) to allow the use of spinosad bait spray as an alternative chemical treatment for premises. In a second interim rule effective on March 2, 2005, and published in the Federal Register on March 8, 2005 (70 FR 11111-11112, Docket No. 02-096-4), we amended the regulations by removing the portion of Orange County, CA, from the list of quarantined areas and removing restrictions on the interstate movement of regulated articles from that area based on our determination that the Oriental fruit fly had been eradicated from that area. Upon the effective date of our March 2005 interim rule, there were no longer any areas in the continental United States quarantined for the Oriental fruit fly.

Comments on each interim rule were required to be received on or before 60 days after the date of its publication in the Federal Register. We did not receive any comments on either of the interim rules. Therefore, for the reasons given in the interim rules, we are adopting the interim rules as a final rule.

This action also affirms the information contained in the interim rules concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 69 FR 56157-56159 on September 20, 2004, as amended by the interim rule published at 70 FR 11111-11112 on March 8, 2005.

Done in Washington, DC, this 21st day of June 2005.
Elizabeth E. Gaston,
Acting Administrator, Animal and Plant Health Inspection Service.

[FR Doc. 05-12643 Filed 6-24-05; 8:45 am]

BILLING CODE 3410-34-P